DEPARTMENT OF ENERGY

Federal Energy Regulatory Commission

[Docket No. CP15-560-000]

Cameron LNG, LLC; Notice of Schedule for Environmental Review of the Cameron LNG Terminal Expansion Project

On September 28, 2015, Cameron LNG, LLC filed an application in Docket No. CP15-560-000 requesting Authorization pursuant to section 3 of the Natural Gas Act to construct and operate certain liquefied natural gas (LNG) facilities at the existing Cameron LNG Terminal. The proposed project is known as the Cameron LNG Terminal Expansion Project (Project), and would increase the terminal's capability to liquefy natural gas for export by 515 billion cubic feet per year.

On October 13, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—February 12, 2016

90-day Federal Authorization Decision Deadline—May 12, 2016

If a schedule change becomes necessary, additional notice will be provided so that the relevant agencies are kept informed of the Project's progress.

Project Description

Cameron LNG, LLC's Project would add an additional LNG storage tank (Tank 5) and two new systems to liquefy natural gas (Trains 4 and 5) to its existing LNG Terminal in Cameron and Calcasieu Parishes, Louisiana. No construction would occur outside of the existing terminal and no new shipping is proposed as a result of this Project.

Background

On June 18, 2015, the Commission issued a Notice of Intent to Prepare an Environmental Assessment for the Planned Cameron LNG Expansion Project and Request for Comments on Environmental Issues (NOI). The NOI was issued during the pre-filing review of the Project in Docket No. PF15-13-000 and was sent to affected landowners; federal, state, and local government agencies; elected officials; environmental and public interest groups; Native American tribes; other interested parties; and local libraries and newspapers. In response to the NOI, the Commission received comments from the U.S. Environmental Protection Agency (EPA). The primary issues raised by the EPA are alternatives, groundwater and water impacts, wildlife and habitat impacts, air quality, hazardous materials, tribal and state historic preservation office consultation, and environmental justice.

The U.S. Department of Transportation and U.S. Department of Energy are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-560), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: January 11, 2016.
Nathaniel J. Davis, Sr.,
Deputy Secretary.

[FR Doc. 2016-00703 Filed 1-14-16; 8:45 am]

BILLING CODE 6717-01-P